DEPARTMENT OF TRANSPORTATION

Federal Aviation Administration

13th Meeting: RTCA Special Committee 206/EUROCAE WG 76 Plenary

AGENCY: Federal Aviation Administration (FAA), DOT.

ACTION: Notice of RTCA Special Committee 206 meeting.

SUMMARY: The FAA is issuing this notice to advise the public of a meeting of RTCA Special Committee 206: Aeronautical Information Services Data Link

DATES: The meeting will be held June 9-13, 2008 from 9 a.m. to 5 p.m.

ADDRESSES: The meeting will be held at St. Petersburg University of Aerospace Instrumentation (SUAI) 67, Bolshaya Morskaya, St. Petersburg, 190000 Russia, http://suari.ru.

FOR FURTHER INFORMATION CONTACT: Oksana Muhina, International co-operation Department; telephone (+7 812) 3 12-09-37; E-mail int@aanet.ru.

SUPPLEMENTARY INFORMATION: Pursuant to section 10(a)(2) of the Federal Advisory Committee Act (Pub. L. 92-463, 5 U.S.C., Appendix 2), notice is hereby given for a Special Committee 206 meeting/EUROCE WG 76. The agenda will include:

June 9

• Open Plenary (Chairman's Remarks and Introductions, Review and Approve Meeting Agenda and Minutes, Discussion)

• Coordination with WG78/SC214

• Action Item Review

• Schedule for this week

• Schedule for next meetings

Presentations

• To be determined

• SPR and INTEROP

June 10

• AIS Subgroup meeting—Meteorology Subgroup meetings

• Meteorology Subgroup meeting

June 11

• Subgroup 1 and Subgroup 2 Meetings

June 12

• Subgroup 1 and Subgroup 2 Meetings

June 13

• Subgroup 1 and Subgroup 2 Meetings

• Plenary Session (Other Business, Meeting Plans and Dates, Closing Remarks, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 5, 2008.
Francisco Estrada C.,
RTCA Advisory Committee.

[FR Doc. E8-10412 Filed 5-12-08; 8:45 am]

BILLING CODE 4910-13-M